DEPARTMENT OF COMMERCE

National Oceanic and Atmospheric Administration

RIN 0648-XC994

Fishing Capacity Reduction Program for the Pacific Coast Groundfish Fishery

AGENCY: National Marine Fisheries Service (NMFS), National Oceanic and Atmospheric Administration (NOAA), Commerce.

ACTION: Notice of loan repayment.

SUMMARY: NMFS issues this notice to inform interested parties that the Washington pink shrimp sub-loan in the fishing capacity reduction program for the Pacific Coast Groundfish Fishery has been repaid. Therefore, buyback fee collections on Washington pink shrimp will cease for all landings after October 31, 2013.

DATES: Comments must be submitted on or before 5 p.m. EST December 9, 2013.

ADDRESSES: Send comments about this notice to Paul Marx, Chief, Financial Services Division, NMFS, Attn: Washington Pink Shrimp Buyback, 1315 East-West Highway, Silver Spring, MD 20910 (see FOR FURTHER INFORMATION CONTACT).

FOR FURTHER INFORMATION CONTACT: Michael A. Sturtevant at (301) 427-8799 or Michael.A.Sturtevant@noaa.gov.

SUPPLEMENTARY INFORMATION: On November 16, 2004, NMFS published a Federal Register document (69 FR 67100) proposing regulations to implement an industry fee system for repaying the reduction loan. The final rule was published July 13, 2005 (70 FR 40225) and fee collection began on September 8, 2005. Interested persons should review these for further program details.

The Washington pink shrimp sub-loan of the Pacific Coast Groundfish Capacity Reduction (Buyback) loan in the amount of $259,399.63 will be repaid in full upon receipt of buyback fees on landings through October 31, 2013. NMFS has received $402,528.12 to repay the principal and interest on this sub-loan since fee collection began September 8, 2005. Buyback fees in the Washington pink shrimp fishery increased rapidly in the 2012 and 2013 seasons which reduced the balance on the loan in a short period of time resulting in early loan repayment. Therefore, these buyback loan fees will no longer be collected in the Washington pink shrimp fishery.

Based on buyback fees received to date, landings after October 31, 2013 will not be subject to the buyback fee. Buyback fees not yet forwarded to NMFS for Washington pink shrimp landings through October 31, 2013 should be forwarded to NMFS immediately. Any overpayment of buyback fees submitted to NMFS will be refunded on a pro-rata basis to the fish buyers/processors based upon best available fish ticket landings data. The fish buyers/processors should return excess buyback fees collected to the harvesters, including buyback fees collected but not yet remitted to NMFS for landings after October 31, 2013. Any discrepancies in fees owed and fees paid must be resolved immediately. After the sub-loan is closed, no further adjustments to fees paid and fees received can be made. Fish dealers whose fees for 2013 were not yet due as they have accumulated less than $100 in fees should forward their fees at this time for landings through October 31, 2013.

Dated: November 18, 2013.
Donna Rivelli,
Acting Director, Office of Management and Budget, National Marine Fisheries Service.

[FR Doc. 2013-28103 Filed 11-21-13; 8:45 am]

BILLING CODE 3510-22-P